DEPARTMENT OF THE INTERIOR

Bureau of Land Management

[CA-190-04-1610-DS]

Notice of Availability of a Draft Resource Management Plan Amendment and Draft Environmental Impact Statement for the Clear Creek Management Area; Correction to April 2003 Notice of Intent (68 FR 22733)

AGENCY: Bureau of Land Management, Interior.

ACTION: Notice of Availability of a Draft Resource Management Plan Amendment and Draft Environmental Impact Statement (Draft RMP/Draft EIS) for the Clear Creek Management Area, Hollister Field Office, in the southern portion of San Benito County and western Fresno County, California; Correction to April 2003 Notice of Intent (68 FR 22733).

SUMMARY: In accordance with the National Environmental Policy Act of 1969, and the Federal Land Policy and Management Act of 1976, a Draft RMP/Draft EIS has been prepared for the Clear Creek Management Area. The Draft RMP/Draft EIS considers designations of areas and trails for off-road vehicles (ORV) in accordance with 43 CFR Subpart 8342, and the delineation of boundaries of the expansion of the San Benito Mountain Research Natural Area. This notice and the Draft RMP/Draft EIS also fulfill the planning requirements in 43 CFR 1610. The Draft RMP/Draft EIS is tiered to the Clear Creek Management Area RMP Amendment/EIS (1995).

This notice will also correct the Notice of Intent (NOI) of April 29, 2003 (68 FR 22733): BLM will prepare an Environmental Impact Statement instead of an Environmental Assessment as previously anticipated.

DATES: The comment period will end 90 days after the Environmental Protection Agency's Notice of Availability is published in the Federal Register announcing the availability of this Draft RMP/Draft EIS. Comments on the Draft RMP/Draft EIS must be submitted on or before the end of the comment period at the address listed below. Public meetings will be held during the comment period. Public meetings and any other public involvement activities will be announced at least 15 days in advance through public notices, media news releases, newsletter mailings, and the BLM Web site: http://www.ca.blm.gov.

ADDRESSES: Written comments should be sent to CCMA RMP Team, Bureau of Land Management, Hollister Field Office, 20 Hamilton Court, Hollister, CA 95023. Comments may also be sent by e-mail to Lesly_Smith@ca.blm.gov. Documents pertinent to this proposal may be examined at the Hollister Field Office. Comments, including names and street addresses of respondents, will be available for public review at the Hollister Field Office during regular business hours, 7:30 a.m. to 4 p.m., Monday through Friday, except holidays, and may be published as part of the RMP/EIS. Responses to the comments will be published as part of the Proposed Resource Management Plan Amendment/Final Environmental Impact Statement. Individuals may request confidentiality. If you wish to withhold your name or address from public review or from disclosure under the Freedom of Information Act, you must state this promptly at the beginning of you comment. Such requests will be honored to the extent allowed by law. BLM will not consider anonymous comments. All submissions from organizations or businesses will be made available for public inspection in their entirety.

Copies of the Draft RMP/Draft EIS have been sent to affected Federal, Tribal, State and local Government agencies, and to interested publics and are available at the Hollister Field Office. The planning documents and direct supporting record for the analysis for the Draft RMP/Draft EIS will be available for inspection at the Hollister Field Office during normal business hours (7:30 a.m. to 4 p.m.) Monday through Friday, except holidays). The Draft RMP/Draft EIS and other associated documents may be viewed and downloaded in PDF format at the BLM Web site at http://www.ca.blm.gov.

FOR FURTHER INFORMATION CONTACT: George E. Hill, Assistant Field Manager, at the above address, telephone number (831) 630-5036, or e-mail: George_Hill@ca.blm.gov.

SUPPLEMENTARY INFORMATION: The Clear Creek Management Area (CCMA) is managed for Off-Highway Vehicle recreation and natural values. CCMA consists of approximately 75,000 acres of public lands and resources in the southern portion of San Benito County and western Fresno County, California. Approximately 30,000 acres are within the Serpentine Area of Critical Environmental Concern (ACEC). The serpentine soils within the ACEC contain high concentrations of naturally occurring asbestos, and comprise an environment with a unique assemblage of plant and animal species.

The CCMA is currently managed under a Record of Decision (ROD) approved in 1999. The ROD designated the CCMA a Limited Use Area for Off-Highway Vehicle (OHV) use and also provided for a subsequent land use planning effort to further analyze and designate specific areas and trails for OHV use. BLM initiated the more subsequent planning in 2003 with publication of a NOI and preparation of an EA. After considering scoping comments from the public requesting that an EIS be prepared, and further analysis of impacts of possible area and route designations in the management area, however, BLM concluded that an EIS was warranted. The scope of the plan amendment is unchanged. All scoping comments submitted under the April 2003 NOI have been considered by BLM in preparing the Draft Amendment and Draft EIS. Additional scoping comments are not requested.

Issues addressed in the EIS include: access for off-highway vehicle use; vehicle access for other casual uses; visitor safety; air quality and public health, watershed impacts, providing protection for listed and sensitive species and habitats; and, protection and viability of the unique forest and vegetation communities within the San Benito Mountain Research Natural Area.

The proposed route of travel and barrens designation changes to the Hollister RMP for the Clear Creek Management Area, including designation of the boundaries of the San Benito Mountain Research Natural Area, requires a formal plan amendment before the designations can be implemented. The amendment process and ORV trail designations were conducted in compliance with the Federal Land Policy Management Act of 1976 (FLPMA), planning regulations (43 CFR 1600), ORV trail designation regulations (43 CFR 8340), BLM manual guidance, and all applicable Federal laws affecting BLM land use decisions and ORV designations.

Criteria were developed to determine whether areas and routes should be designated opened or closed, based on: proximity to sensitive resources (stream crossings, special designations/Research Natural Area, biological and cultural resources, mine sites), private land, erosion hazards and maintenance concerns, motorized and non-motorized recreation opportunities, and administrative and local access. This Draft Amendment and Draft EIS refines the screening criteria and procedures for implementing route and area designation as open, limited, or closed to provide sustainable recreation opportunities and to establish a clear and understandable network of routes and areas available for public use that conforms identified resource condition objectives.

The Draft RMP/Draft EIS considers and analyzes four (4) alternatives A) the Proposed Action, B) Enhanced Recreation Opportunities, C) Enhanced Environmental Protection, and D, the No Action, or Continuation of Current Management alternative. The Bureau considered route inventory data, soil loss surveys, monitoring reports, field evaluations, watershed studies, information obtained from coordination with other federal, state, and local agencies, consultation with the Technical Review Team, and public comments in the development of the resource management plan amendment.

Dated: July 12, 2004
George E. Hill,
Acting Field Manager.

[FR Doc. 04-16437 Filed 7-16-04; 8:45 am]

BILLING CODE 4310-40-P